DEPARTMENT OF THE INTERIOR

Fish and Wildlife Service

Sporting Conservation Council

AGENCY: Fish and Wildlife Service, Interior.

ACTION: Notice of meeting.

SUMMARY: This notice announces a meeting of the Sporting Conservation Council (Council). The meeting agenda includes an update on implementation of the Executive Order on hunting heritage and wildlife conservation; a discussion on the Healthy Lands Initiative; a report on elk management; and a report on the priorities of the Association of Fish and Wildlife Agencies' energy and wildlife policy committee. This meeting is open to the public, and will include a session for the public to comment.

DATES: We will hold the meeting on December 3, 2007, from 8:30 a.m. to 5 p.m., and on December 4, 2007, from 8:30 a.m. to 5 p.m. From 3 p.m. to 4 p.m. on December 3, 2007, we will host a public comment session.

ADDRESSES: On December 3 and 4, 2007, the meeting will be held in the Navajo/Hopi Room at the Homewood Suites, 9880 North Scottsdale Road, Scottsdale, AZ 85253.

FOR FURTHER INFORMATION CONTACT: Phyllis T. Seitts, 9828 North 31st Avenue, Phoenix, AZ 85051-2517; 602-906-5603 (phone); or Twinkle_Thompson-Seitts@blm.gov (e-mail).

SUPPLEMENTARY INFORMATION: The Secretary of the Interior established the Council in February 2006 (71 FR 11220, March 6, 2006). The Council's mission is to provide advice and guidance to the Federal Government through the Department of the Interior on how to increase public awareness of: (1) The importance of wildlife resources, (2) the social and economic benefits of recreational hunting, and (3) wildlife conservation efforts that benefit recreational hunting and wildlife resources.

The Secretary of the Interior and the Secretary of Agriculture signed an amended charter for the Council in June 2006 and July 2006, respectively. The revised charter states that the Council will provide advice and guidance to the Federal Government through the Department of the Interior and the Department of Agriculture.

The Council will hold a meeting on the dates shown in the DATES section at the address shown in the ADDRESSES section. The meeting will include a session for the public to comment.

Dated: October 24, 2007.
Phyllis T. Seitts,
Designated Federal Officer, Sporting Conservation Council.

[FR Doc. E7-22015 Filed 11-8-07; 8:45 am]

BILLING CODE 4310-55-P